DEPARTMENT OF THE INTERIOR

Bureau of Land Management

[UT-921-1430-ET; UTU 042887]

Public Land Order No. 7650; Revocation of Public Land Order No. 852; Utah

AGENCY: Bureau of Land Management, Interior.

ACTION: Public Land Order.

SUMMARY: This order revokes a Public Land Order in its entirety, which withdrew approximately 8,927 acres for automobile racing and testing grounds. The lands are located within another overlapping withdrawal, so Public Land Order No. 852 is no longer needed.

EFFECTIVE DATE: January 18, 2005.

FOR FURTHER INFORMATION CONTACT: Rhonda Flynn, BLM Utah State Office, 440 West 200 South, Suite 500, Salt Lake City, Utah 84101-1345, 801-539-4132.

SUPPLEMENTARY INFORMATION: The lands withdrawn by Public Land Order No. 852 are located within another overlapping withdrawal for the Bonneville Salt Flats. This is a record-clearing action only. A copy of the original withdrawal order, Public Land Order No. 852, is available from the BLM Utah State Office at the address stated above.

Order

By virtue of the authority vested in the Secretary of the Interior by section 204 of the Federal Land Policy and Management Act of 1976, 43 U.S.C. 1714 (2000), it is ordered as follows:

Public Land Order No. 852 (17 FR 6100, July 8, 1952) which withdrew approximately 8,927 acres in Tooele County, Utah for automobile racing and testing grounds, is hereby revoked in its entirety.

Dated: November 16, 2005.
Mark Limbaugh,
Assistant Secretary of the Interior.

[FR Doc. E5-7485 Filed 12-16-05; 8:45 am]

BILLING CODE 4310-DQ-P